CONSUMER PRODUCT SAFETY COMMISSION

Notice of Meeting

AGENCY: U.S. Consumer Product Safety Commission.

Time and Date: Thursday, September 20, 2001 2:00 p.m.

Location: Room 410, East West Towers, 4330 East West Highway, Bethesda, Maryland.

Status: Closed to the Public—Pursuant to 5 U.S.C. 552b(f)(1) and 16 CFR 1013.4(b)(3)(7)(9) and (10) and submitted to the Federal Register pursuant to 5 U.S.C. 552b(e)(3).

Matter to be Considered:

Compliance Status Report

The staff will brief the Commission on the status of various compliance matters.

For a recorded message containing the latest agenda information, call (301) 504-0709.

FOR FURTHER INFORMATION CONTACT: Todd A. Stevenson, Office of the Secretary, 4330 East West Highway, Bethesda, MD 20207 (301) 504-0800.

Dated: September 13, 2001.
Todd A. Stevenson,
Acting Secretary.

[FR Doc. 01-23558 Filed 9-20-01; 8:45 am]

BILLING CODE 6355-01-M